DEPARTMENT OF LABOR

Employment and Training Administration

[TA-W-60,107]

Saint-Gobain Performance Plastics Corporation, Mundelein, IL; Notice of Termination of Investigation

Pursuant to Section 221 of the Trade Act of 1974, an investigation was initiated on September 20, 2006 in response to a petition filed by a company official on behalf of workers at Saint-Gobain Performance Plastics Corporation, Mundelein, Illinois.

The petitioner has requested that the petition be withdrawn. Consequently, the investigation has been terminated.

Signed in Washington, DC, this 27th day of September 2006.
Elliott S. Kushner,
Certifying Officer, Division of Trade Adjustment Assistance.

[FR Doc. E6-16349 Filed 10-3-06; 8:45 am]

BILLING CODE 4510-30-P